DEPARTMENT OF DEFENSE

Department of the Navy

Meeting of the Naval Research Advisory Committee

AGENCY: Department of the Navy, DOD.

ACTION: Notice.

SUMMARY: The Naval Research Advisory Committee (NRAC) Panel on Quality of Life will meet to examine Quality of Life issues for Sailors and Marines in an effort to anticipate what they will be for the new Navy of the 21st century and what the Navy's responses to the new challenges will have to look like. All sessions of the meeting will be open to the public.

DATES: The meeting will be held on Wednesday, May 31, 2000, 8:30 a.m. to 5 p.m.; on Thursday, June 1, 2000, from 8:30 a.m. to 5 p.m.; and on Friday, June 2, 2000, from 8:30 a.m. to 3 p.m.

ADDRESSES: The meeting will be held at the Office of Naval Research, 800 North Quincy Street, Arlington, Virginia.

FOR FURTHER INFORMATION CONTACT: Diane Mason-Muir, Program Director, Naval Research Advisory Committee, 800 North Quincy Street, Arlington, VA 22217-5660, telephone (703) 696-6769.

Dated: May 11, 2000.
J.L. Roth,
Lieutenant Commander, Judge Advocate General's Corps, U.S. Navy, Federal Register Liaison Officer.

[FR Doc. 00-12595 Filed 5-18-00; 8:45 am]

BILLING CODE 3810-FF-P